DEPARTMENT OF COMMERCE

Bureau of Industry and Security

15 CFR Part 744

[Docket No. 200310-0073]

RIN 0694-ZA02

Request for Comments on Future Extensions of Temporary General License (TGL)

AGENCY: Bureau of Industry and Security, Commerce.

ACTION: Notification of inquiry.

SUMMARY: The Bureau of Industry and Security (BIS) is requesting comments on future extensions of a temporary general license under the Export Administration Regulations (EAR). BIS is requesting these comments to assist the U.S. Government in evaluating whether the temporary general license should continue to be extended, to evaluate whether any other changes may be warranted to the temporary general license, and to identify any alternative authorization or other regulatory provisions that may more effectively address what is being authorized under the temporary general license.

DATES: Submit comments on or before March 25, 2020.

ADDRESSES: You may submit comments, identified by docket number BIS 2020-0001 or RIN 0694-ZA02, through the Federal eRulemaking Portal: http://www.regulations.gov. Follow the instructions for submitting comments.

All filers using the portal should use the name of the person or entity submitting comments as the name of their files, in accordance with the instructions below. Anyone submitting business confidential information should clearly identify the business confidential portion at the time of submission, file a statement justifying nondisclosure and referencing the specific legal authority claimed, and provide a non-confidential version of the submission.

For comments submitted electronically containing business confidential information, the file name of the business confidential version should begin with the characters “BC.” Any page containing business confidential information must be clearly marked “BUSINESS CONFIDENTIAL” on the top of that page. The corresponding non-confidential version of those comments must be clearly marked “PUBLIC.” The file name of the non-confidential version should begin with the character “P.” The “BC” and “P” should be followed by the name of the person or entity submitting the comments or rebuttal comments. All filers should name their files using the name of the person or entity submitting the comments. Any submissions with file names that do not begin with a “BC” or “P” will be assumed to be public and will be made publicly available through http://www.regulations.gov.

FOR FURTHER INFORMATION CONTACT: Director, Regulatory Policy Division, Bureau of Industry and Security, Department of Commerce, by phone at (202) 482-2440 or email at rpd2@bis.doc.gov.

SUPPLEMENTARY INFORMATION:

Background

As published on May 22, 2019 (84 FR 23468), extended and amended through a final rule published on August 21, 2019 (84 FR 43487), and as currently extended through a final rule published on February 18, 2020 (85 FR 8722) Commerce has authorized the temporary general license (TGL) to Huawei Technologies and 114 of its non-US affiliates on the Entity List. This extension authorizes support of existing networks and equipment as well as the support of existing mobile services. Exporters, reexporters, and transferors are required to maintain certifications and other records, to be made available when requested by BIS, regarding their use of the temporary general license. This TGL in Supplement No. 7 to part 744 of the Export Administration Regulations (EAR) is limited to authorizing transactions to one or more of the activities described in paragraphs (c)(1) through (3) of the TGL, destined to Huawei Technologies Co., Ltd. (Huawei) or any of its affiliates listed on the Entity List.

As published on May 22, 2019 (84 FR 22961), and as revised and clarified by a final rule published on August 21, 2019 (84 FR 43493), any exports, reexports, or in-country transfers of items subject to the EAR to any of the listed Huawei entities as of the effective date they were added to the Entity List continue to require a license, with the exception of transactions explicitly authorized by the temporary general license and eligible for export, reexport, or transfer (in-country) prior to May 16, 2019 without a license or under a license exception. License applications will continue to be reviewed under a presumption of denial, as stated in the Entity List entries for the listed Huawei entities.

No persons are relieved of other obligations under the EAR, including but not limited to licensing requirements to the People's Republic of China (PRC or China) or other destinations and the requirements of part 744 of the EAR. The temporary general license also does not authorize any activities or transactions involving Country Group E countries (i.e., Cuba, Iran, North Korea, Sudan, and Syria) or nationals.

Request for Comments on Future Extensions of Validity

BIS welcomes comments from the public on the impact on companies, organizations, individuals, and other impacted entities in the following areas.

1. What would be the impact on your company or organization if the temporary general license is not extended?

2. Given the TGL was implemented to prevent the interruption of existing network communication systems and equipment, as set forth in paragraphs (c)(1) through (3) of the TGL, and allow time for companies and persons to shift to other sources of equipment, software and technology (i.e., those not produced by Huawei or one of its listed affiliates), what would be required for your organization or industry to achieve such an end-state? For your industry or organization how long would it take until the authorization(s) in the temporary general license would no longer be required? What are costs associated with this shift and are there issues where the prohibited equipment, software and technology are prevalent and alternative solutions may not be available? Are there specific use cases where cessation of use is not feasible?

3. If the TGL is extended, what potential revisions should BIS consider to enhance effectiveness for both covered transactions and transactions outside of the scope of the temporary general license?

4. What potential alternatives to either extending the TGL or allowing it to expire will facilitate compliance with the supplemental requirements of the Entity List entries for Huawei and its listed affiliates while reducing complexity for implementation purposes?

5. There may be further costs associated with the current extension or non-extension of the current TGL (e.g., lost business opportunities)—what are they and what additional guidance should BIS consider?

Instructions for the submission of comments, including comments that contain business confidential information, are found in the Addresses section of this notice.

Dated: March 10, 2020.
Richard E. Ashooh,
Assistant Secretary for Export Administration.

[FR Doc. 2020-05194 Filed 3-10-20; 4:15 pm]

BILLING CODE 3510-33-P